DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 21, 2003.

Interested persons are invited to submit written comments regarding the subject matter of the investigations to the Director, Division of Trade Adjustment Assistance, at the address shown below, not later than April 21, 2003.

The petitions filed in this case are available for inspection at the Office of the Director, Division of Trade Adjustment Assistance, Employment and Training Administration, U.S. Department of Labor, Room C-5311, 200 Constitution Avenue, NW., Washington, DC 20210.

Signed in Washington, DC this 25th day of March, 2003.
Edward A. Tomchick,
Director, Division of Trade Adjustment Assistance.

Appendix.—Petitions Instituted Between 03/17/2003 and 03/25/2003
TA-W | Subject firm (petitions) | Location | Date of institution | Date of petition
51,170 | Siemens Energy and Automation (Comp) | Miami, FL | 03/17/2003 | 03/14/2003
51,171 | SAP America, Inc. (Wkrs) | Newtown Square, PA | 03/17/2003 | 03/07/2003
51,172 | Tabuchi Electric Company (TN) | Cordova, TN | 03/17/2003 | 03/14/2003
51,173 | Ericssion, Inc. (Wkrs) | Brea, CA | 03/17/2003 | 01/06/2003
51,174 | Mann Edge Tool Company (Comp) | Lewistown, PA | 03/17/2003 | 03/17/2003
51,175 | Jamestown Precision Tooling, Inc. (Comp) | Jamestown, NY | 03/17/2003 | 02/05/2003
51,176 | Remy Logistics (Comp) | Anderson, IN | 03/17/2003 | 03/11/2003
51,177 | Kelly Services (Wkrs) | Newtown Square, PA | 03/17/2003 | 03/07/2003
51,178 | My Room, Inc. (Comp) | Lawrenceville, VA | 03/17/2003 | 03/12/2003
51,179 | Standard Corporation (Comp) | Duncan, SC | 03/17/2003 | 03/14/2003
51,180 | General Electric (Wkrs) | Corpus Christi, TX | 03/17/2003 | 03/10/2003
51,181 | Elliott Ebara Group (Wkrs) | Jeannette, PA | 03/17/2003 | 02/28/2003
51,182 | Ball Container (AR) | Blytheville, AR | 03/17/2003 | 03/14/2003
51,183 | Columbia Falls Aluminum Co. (Comp) | Columbia Falls, MT | 03/17/2003 | 03/13/2003
51,184 | ABN Amro Bank (Wkrs) | Miami, FL | 03/17/2003 | 03/14/2003
51,185 | Fishing Vessel North Runner (Comp) | Homer, AK | 03/17/2003 | 03/13/2003
51,186 | State of Alaska Commerical Fisheries (Comp) | Togiak, AK | 03/17/2003 | 01/23/2003
51,187 | Thermal-Arc, Inc. (Wkrs) | Troy, OH | 03/18/2003 | 03/07/2003
51,188 | Thunderbird Mining Company | Eveleth, MN | 03/18/2003 | 03/17/2003
51,189 | Nokia (Comp) | Santa Rosa, CA | 03/18/2003 | 03/11/2003
51,190 | Zurn Industries, Inc. (Wkrs) | Erie, PA | 03/18/2003 | 03/13/2003
51,191 | Getronics (Wkrs) | Billerica, MA | 03/18/2003 | 03/03/2003
51,192 | U.S. Textile Corporation (Wkrs) | Newland, NC | 03/18/2003 | 03/12/2003
51,193 | Journey Bottling, LLC (CA) | Santa Rosa, CA | 03/18/2003 | 03/06/2003
51,194 | Weyerhaeuser Company (Comp) | Plymouth, NC | 03/18/2003 | 03/07/2003
51,195 | Caraustar (Comp) | Rittman, OH | 03/18/2003 | 03/14/2003
51,196 | Siemens Energy and Automation, Inc. (IUECWA) | Norwood, OH | 03/18/2003 | 01/13/2003
51,197 | Boeing Company (The) (Comp) | Pueblo, CO | 03/18/2003 | 03/17/2003
51,198 | Oregon Log Homes (OR) | Sisters, OR | 03/18/2003 | 03/17/2003
51,199 | Dura Automotive Systems (NFIU) | Stockton, IL | 03/18/2003 | 03/10/2003
51,200 | Synopsys, Inc. (OR) | Hillsboro, OR | 03/18/2003 | 03/11/2003
51,201 | First International Computer of TX (Wkrs) | Austin, TX | 03/18/2003 | 03/12/2003
51,202 | Spectrum Control (Wkrs) | Wesson, MS | 03/18/2003 | 03/03/2003
51,203 | Arrow Electronics (Wkrs) | Foothill Ranch, CA | 03/18/2003 | 03/03/2003
51,204 | Corbin Ltd. (Wkrs) | Ashland, NY | 03/18/2003 | 03/01/2003
51,205 | Phoenix Gold (Wkrs) | Portland, OR | 03/18/2003 | 03/11/2003
51,206 | Hosokawa Micron International, Inc. (CA) | Santa Rosa, CA | 03/18/2003 | 03/10/2003
51,207 | General Electric (Wkrs) | Mebane, NC | 03/18/2003 | 03/07/2003
51,208 | Stanley Works (IAMAW) | Farmington, CT | 03/19/2003 | 03/10/2003
51,209 | WellChoice, Inc. (Wkrs) | New York, NY | 03/19/2003 | 03/10/2003
51,210 | Intel Corporation (Wkrs) | Santa Clara, CA | 03/19/2003 | 03/07/2003
51,211 | CommScope, Inc. (Wkrs) | Claremont, NC | 03/19/2003 | 02/12/2003
51,212 | Siemens VDO Automotive (Wkrs) | Cheshire, CT | 03/19/2003 | 03/14/2003
51,213 | MKS Instruments (CO) | Colorado Spring, CO | 03/19/2003 | 03/07/2003
51,214 | Millward Brown (Wkrs) | Racine, WI | 03/19/2003 | 03/12/2003
51,215 | Hydromatic Pump (Wkrs) | Ashland, OH | 03/19/2003 | 03/05/2003
51,216 | Lexmark International, Inc. (Comp) | Orlando, FL | 03/19/2003 | 03/18/2003
51,217 | Universal Instrument Corporation (NY) | Binghamton, NY | 03/19/2003 | 03/10/2003
51,218 | Oregon Screw Machine Products (Comp) | Portland, OR | 03/19/2003 | 03/10/2003
51,219 | Gemini Gas Compressors (Wkrs) | Corpus Christi, TX | 03/19/2003 | 03/10/2003
51,220 | Wellington Leisure Products (Comp) | Crivitz, WI | 03/19/2003 | 03/18/2003
51,221 | Industrial Clutch (IAMAW) | Waukesha, WI | 03/19/2003 | 03/17/2003
51,222 | Parker Seals (IAMAW) | Waukesha, WI | 03/19/2003 | 03/17/2003
51,223 | PPG (Wkrs) | Shelby, NC | 03/19/2003 | 03/17/2003
51,224 | Olin Brass (USWA) | Indianapolis, IN | 03/19/2003 | 03/14/2003
51,225 | Crompton Corporation (Comp) | Naugatuck, CT | 03/19/2003 | 03/13/2003
51,226 | Haworth, Inc. (MI) | Holland, MI | 03/19/2003 | 03/13/2003
51,227 | Corning Cable Systems, LLC (Wkrs) | Hickory, NC | 03/19/2003 | 03/18/2003
51,228 | M.E.L., Inc. (Comp) | Winchester, MN | 03/19/2003 | 02/26/2003
51,229 | Uniloy Milacron (Comp) | Manchester, MI | 03/19/2003 | 03/11/2003
51,230 | Viasystems (OR) | Beaverton, OR | 03/19/2003 | 03/17/2003
51,231 | Micron Technology Virginia (Wkrs) | Manassas, VA | 03/19/2003 | 03/10/2003
51,232 | Lees Curtain Company (Wkrs) | Thayer, MO | 03/19/2003 | 03/05/2003
51,233 | Universal Stainless and Alloy Products (USW) | Bridgeville, PA | 03/19/2003 | 03/17/2003
51,234 | HP Pelzer (Wkrs) | Thomson, GA | 03/19/2003 | 03/06/2003
51,235 | F/V Halo Wawa (Comp) | Ketchikan, AK | 03/19/2003 | 03/12/2003
51,236 | KC Fisheries, Inc. (Comp) | Kodiak, AK | 03/19/2003 | 02/12/2003
51,237 | F/V Sea Pride (Comp) | Everett, WA | 03/19/2003 | 03/15/2003
51,238 | Brian Couch (Comp) | Kodiak, AK | 03/19/2003 | 03/13/2003
51,239 | F/V Pamela Dawn (Comp) | Kodiak, AK | 03/19/2003 | 03/07/2003
51.240 | P.Q. Controls (ME) | Dover-Foxcroft, ME | 03/20/2003 | 03/13/2003
51,241 | Bethlehem Steel Corp. (MD) | Baltimore, MD | 03/20/2003 | 03/19/2003
51,242 | PolyOne Corporation (Comp) | Yerington, NV | 03/20/2003 | 03/14/2003
51,243 | Alcatel, USA (Wkrs) | Plano, TX | 03/20/2003 | 03/19/2003
51,244 | Teletech Holdings (Wkrs) | Duluth, GA | 03/20/2003 | 03/17/2003
51,245 | National Refractories and Minerals Corp. (USW) | Mexico, MO | 03/20/2003 | 03/16/2003
51,246 | Cold Metal Products, Inc. (Wkrs) | Campbell, OH | 03/20/2003 | 03/10/2003
51,247 | Agilent Technologies (Wkrs) | Rohnert Park, CA | 03/21/2003 | 03/13/2003
51,248 | Agilent Technologies (Wkrs) | Rohnert Park, CA | 03/21/2003 | 03/12/2003
51,249 | OSRAM Sylvania Products, Inc. (Comp) | Bangor, ME | 03/21/2003 | 03/20/2003
51,250 | Shugart Corporation (Comp) | Tucson, AZ | 03/21/2003 | 03/20/2003
51,251 | Western Geco (Wkrs) | Houston, TX | 03/21/2003 | 03/19/2003
51,252 | Filtex, Inc. (Comp) | Guntersville, AL | 03/21/2003 | 03/21/2003
51,253 | Delta Woodside Industries (Comp) | Maiden, NC | 03/21/2003 | 03/20/2003
51,254 | Napco, Inc. (Comp) | Butler, PA | 03/21/2003 | 03/20/2003
51,255 | Icy Waters US (Wkrs) | Oakville, WA | 03/21/2003 | 03/19/2003
51,256 | Westinghouse Electric Company (Wkrs) | Blairsville, PA | 03/21/2003 | 03/20/2003
51,257 | Mason Shoe Manufacturing Company (UFCW) | Chippewa Falls, WI | 03/21/2003 | 03/02/2003
51,258 | Riley Golf (CA) | Monterey, CA | 03/21/2003 | 03/11/2003
51,259 | TTM Technologies (Wkrs) | Redmond, WA | 03/21/2003 | 03/20/2003
51,260 | L.L. Bean (Wkrs) | Brunswick, ME | 03/21/2003 | 03/07/2003
51,261 | Fishing Vessel (F/V) Lonny A. (Comp) | Ekwok, AK | 03/21/2003 | 03/19/2003
51,262 | Spang and Company (Comp) | Canton, NC | 03/21/2003 | 03/20/2003
51,263 | Caterpillar, Inc. (IAMAW) | Joliet, IL | 03/21/2003 | 03/06/2003
51,264 | Multek, Inc. (Wkrs) | Irvine, CA | 03/21/2003 | 03/13/2003
51,265 | Galt Alloys, Inc. (Comp) | Canton, OH | 03/21/2003 | 03/12/2003
51,266 | GE Plastics (Wkrs) | Pittsfield, MA | 03/21/2003 | 03/13/2003
51,267 | Gemco, Inc. (Comp) | Estill, SC | 03/21/2003 | 03/17/2003
51,268 | Hamilton Beach/Proctor-Silex Inc. (Comp) | El Paso, TX | 03/21/2003 | 03/12/2003
51,269 | Hamilton Beach/Proctor-Silex Inc. (Comp) | Washington, NC | 03/21/2003 | 03/13/2003
51,270 | American United Life (Wkrs) | Avon, CT | 03/21/2003 | 03/13/2003
51,271 | James Moore and Son (Wkrs) | Brownsville, TN | 03/21/2003 | 03/13/2003
51,272 | Erasteel, Inc. (Wkrs) | McKeesport, PA | 03/24/2003 | 03/21/2003
51,273 | Sonoco Products Co. (Wkrs) | Denison, TX | 03/24/2003 | 03/07/2003
51,274 | RFD Publications, LLC (Comp) | Wilsonville, OR | 03/24/2003 | 03/19/2003
51,275 | Jon Van Ravenswaay (Comp) | Dillingham, AK | 03/24/2003 | 03/21/2003
51,276 | Radio Frequency Systems, Inc. (Wkrs) | Corvallis, OR | 03/24/2003 | 02/15/2003
51,277 | Houlton International Corporation (Comp) | Houlton, ME | 03/24/2003 | 01/30/2003
51,278 | Stanley Furniture Company (Comp) | Lexington, NC | 03/24/2003 | 03/24/2003
51,279 | Siemens Measurement Systems (Wkrs) | Spring House, PA | 03/24/2003 | 03/21/2003
51,280 | Emerson Appliance Controls (Wkrs) | Frankfort, IN | 03/24/2003 | 03/12/2003
51,281 | First Source Furniture Group (Comp) | Nashville, TN | 03/24/2003 | 03/20/2003
51,282 | Gateway Country Store (Wkrs) | Asheville, NC | 03/24/2003 | 03/22/2003
51,283 | Western Insulfoam (Wkrs) | The Dallas, OR | 03/24/2003 | 03/21/2003
51,284 | ADC Telecommunications (Wkrs) | Chickamauga, GA | 03/24/2003 | 03/20/2003
51,285 | Honeywell International (Comp) | Albuquerque, NM | 03/24/2003 | 03/10/2003
51,286 | Celestica Corporation (IBEW) | Oklahoma City, OK | 03/24/2003 | 03/24/2003
51,287 | Vision Teq (FL) | Ft. Lauderdale, FL | 03/24/2003 | 03/24/2003
51,288 | Kyocera Tycom Corporation (Wkrs) | Arden Hills, MN | 03/24/2003 | 03/13/2003
51,289 | Sun Hill Industries, Inc. (Wkrs) | Schenectady, NY | 03/25/2003 | 03/18/2003
51,290 | Glassco, Inc. (Comp) | Altoona, AL | 03/25/2003 | 03/24/2003
51,291 | U.S. Cotton, LLC (Comp) | Valley Park, MO | 03/25/2003 | 03/24/2003
51,292 | Hamilton Sundstrand (Comp) | Denver, CO | 03/25/2003 | 03/24/2003
51,293 | 4 B's Restaurant (Comp) | Libby, MT | 03/25/2003 | 03/21/2003
51,294 | Acra-Line Products (Wkrs) | Tipton, IN | 03/25/2003 | 03/24/2003
51,295 | Evening Vision Dresses, Ltd. (Wkrs) | New York, NY | 03/25/2003 | 03/20/2003
51,296 | Federal Mogul (Comp) | Hampton, VA | 03/25/2003 | 03/19/2003
51,297 | Bulk Handling Systems (OR) | Eugene, OR | 03/25/2003 | 03/19/2003
51,298 | Faultless Caster (Comp) | Evansville, IN | 03/25/2003 | 03/17/2003
51,299 | Ametek (Comp) | Grand Junction, CO | 03/25/2003 | 03/12/2003
51,300 | Fujitsu Ten Corp. of America (Comp) | Rushville, IN | 03/25/2003 | 03/21/2003
51,301 | Edgcomb Metals (USWA) | Roseville, MI | 03/25/2003 | 03/20/2003
51,302 | Fishing Vessel Chasina Bay (Comp) | Ketchikan, AK | 03/25/2003 | 03/19/2003
51,303 | Pryor Fish Camp (Comp) | Kodiak, AK | 03/25/2003 | 03/21/2003
51,304 | Bristol Bay (Comp) | Manokotak, AK | 03/25/2003 | 03/21/2003
51,305 | Alaska Commercial Fisheries (Comp) | Manokotak, AK | 03/25/2003 | 03/21/2003
51,306 | Alaska Commerical Fisheries (Comp) | Manokotak, AK | 03/25/2003 | 03/21/2003
51,307 | Bristol Bay (Comp) | Manokotak, AK | 03/25/2003 | 03/21/2003
51,308 | F/V Miss Alatuss' (Comp) | Manokotak, AK | 03/25/2003 | 03/21/2003
51,309 | Peter Nanalook (Comp) | Manokotak, AK | 03/25/2003 | 03/21/2003
51,310 | Fishing Vessel Lynn & Michelle (Comp) | Monokotak, AK | 03/25/2003 | 03/21/2003
51,311 | F/V Gabriel (Comp) | Manokotak, AK | 03/25/2003 | 03/21/2003
51,312 | F/V Travis G (Comp) | Manokotak, AK | 03/25/2003 | 03/21/2003
51,313 | F/V Nanesse (Comop) | Skagway, AK | 03/25/2003 | 03/24/2003

[FR Doc. 03-8903 Filed 4-10-03; 8:45 am]

BILLING CODE 4510-30-M